DEPARTMENT OF LABOR

Employment and Training Administration

Notice of Availability of Funds and Solicitation for Grant Applications (SGA) for Multiple Education Pathways Blueprint Grants (MEPB)

Announcement Type: Notice of Solicitation for Grant Applications.

Funding Opportunity Number: SGA/DFA PY 06-12.

Catalog of Federal Assistance Number: 17.261.

DATES: Key Dates: The closing date for receipt of applications under this announcement is June 7, 2007. Applications must be successfully submitted no later than 5 p.m. (Eastern Time). Application and submission information is explained in detail in Part IV of this SGA.

SUMMARY: The U.S. Department of Labor (DOL), Employment and Training Administration (ETA), announces the availability of approximately $3 million in grant funds to create a blueprint to build systems of multiple education pathways.

Grants will be awarded through a competitive process and will support small cities (population 70,000-350,000) in the development of a multiple education pathway blueprint which will serve as the city's plan to support youth who are at risk of dropping out of school and youth who have already dropped out of school. ETA is targeting cities of this size in order for the blueprints to have maximum impact on the community's dropout challenges. ETA will fund grants to approximately 10 cities to create blueprints for building multiple education pathways that encompass various alternative education models and strategies. These blueprints will be used to build educational ecosystems that bring together all the educational assets in a community and leverage them to support multiple education pathways that move students to post-secondary education and career pathways and integrate education strategies that may cut across multiple schools and community colleges. It is not the intent for these grants to fund programs and/or slots in educational programs but rather to be used as a catalyst to bring together community partners to assess and address the challenge of serving youth who are at risk of dropping out and youth who have dropped out of school.

These blueprints must be integrated with the city's broader education strategic plan and connected to regional talent and economic development strategies. The blueprints should identify a wide range of innovative and academically rigorous learning environments that address the needs of youth who are at risk of dropping out of school and youth who have dropped out of school. The blueprint will serve as the city's strategic plan for developing and benchmarking progress toward creating a multiple education pathway system.

This solicitation provides background information and describes the application submission requirements, outlines the process that eligible entities must use to apply for funds covered by this solicitation, and outlines the evaluation criteria used as a basis for selecting grantees.

ADDRESSES: Mailed applications must be addressed to the U.S. Department of Labor, Employment and Training Administration, Division of Federal Assistance, Attention: James Stockton, Reference SGA/DFA PY 06-12, 200 Constitution Avenue, NW., Room N-4716, Washington, DC 20201. Facsimile (fax) applications will not be accepted. Information about applying online can be found in Section IV(C) of this document. Applicants are advised that mail delivery in the Washington area may be delayed due to mail decontamination procedures. Hand delivered proposals will be received at the above address.

Applications may also be submitted via the Grants.gov application system. For detailed guidance, please refer to Section IV. C.

SUPPLEMENTARY INFORMATION: This solicitation consists of eight parts:

• Part I provides background information on ETA's multiple education pathways project, a description of ETA's youth vision, and additional information on the key components to consider when preparing an application.

• Part II describes the size and nature of the anticipated awards.

• Part III describes eligibility information.

• Part IV provides information on the application and submission process.

• Part V describes the criteria against which applications will be reviewed and explains the proposal review process.

• Part VI provides award administration information.

• Part VII contains ETA agency contact information.

• Part VIII lists additional resources of interest to applicants and other information.

I. Funding Opportunity Description

These grants will support small cities (population 70,000-350,000) ¹ in the development of detailed blueprints for multiple education pathways systems that provide a mix of alternative learning environments. ETA is targeting cities of this size in order for the blueprints to have maximum impact on the community's dropout challenges. It is ETA's expectation that the blueprints developed with these funds will serve as the city's strategic action plan and foundation for building multiple education pathways.

¹ For population size please go to: http://www.demographia.com/db-2000city5k.htm.

Youth who are at risk of dropping out of school and youth who have already dropped out of school are the main targets of this grant; however, it is important that the blueprint developed fits within the city's larger education strategy. These two objectives, reducing the dropout rate and re-engaging youth who have dropped out, are critical to ensuring a prepared and educated youth pipeline to compete in a demand-driven workforce. This section provides information on the principles underlying the Department of Labor, Employment and Training Administration's Youth Vision.

A. ETA's Youth Vision

Based on studies done by the Council on Competitiveness, creating dynamic regional and State economies requires infrastructure development, research and development, technology transfer which shifts innovation to commercialization, and knowledge and talent development. The public workforce system focuses on knowledge and talent development. The 21st century global economy demands a more highly educated workforce equipped with the skills to ensure career opportunities for American workers and to make America's businesses competitive in a world market. To produce this educated and skilled workforce, innovative “K through Gray” education and lifelong learning systems, economic development strategies, and workforce development investments at the regional, State, and federal levels must be designed and aligned.

The workforce investment system provides adults and youth with the necessary educational, occupational and other skill training and services needed by business and industry in the 21st century economy. Education initiatives, particularly alternative education programs, have taken on new importance within the workforce system. Efforts to create a skilled, well-trained, and demand-driven workforce are important for several reasons:

• A severe crisis faces our nation's workforce: too many youth are leaving high school without their diplomas, unprepared for post-secondary training and employment. The Educational Testing Service's “One-Third of a Nation: Rising Dropout Rates and Declining Opportunities” reports that one-third of all youth who begin ninth grade will not receive a high school diploma. Eleven percent of 16-24 year olds nationally, or 3.8 million youth, are out of school and have neither a diploma nor a GED. These youth represent an untapped labor pool and a valuable resource for employers. Our economy needs these youth to be part of the economy to compete globally.

• The connection between earning and learning: income and education are more closely linked than in any time in our history. Ninety percent of the fastest growing jobs require education and training beyond high school. College students earn on average seventy percent more than high school students. High school dropouts are four times more likely than college graduates to be unemployed. Low-income Americans have far higher rates of dropping out of high school and far lower rates of enrolling in college and obtaining a post-secondary credential than their middle or higher income peers. The earning power of high school dropouts has been in almost continuous decline over the past three decades; in 2002, the earnings of male dropouts declined thirty-two percent. Female dropouts experienced a fourteen percent decline.

• State and regional economies are being negatively impacted by low graduation rates: According to the study, “The Costs and Benefits of an Excellent Education for All of America's Children,” U.S. taxpayers could reap $45 billion if the nation were to cut one year's worth of high school dropouts in half. “High school graduation is associated with higher incomes, better health, lower criminal activity, and lower welfare receipt,” the report states. In total, the report identified a net economic benefit of $127,000 for each additional high school graduate. By adding the benefit per graduate from higher taxes, improved health, less crime, and fewer welfare payments, the authors estimate a public benefit of $209,000 in higher government revenues and lower government spending for each additional high school graduate.² The Center for Labor Market Studies at Northeastern University in Boston, Massachusetts prepared “An Assessment of the Labor Market, Income, Health, Social, Civic and Fiscal Consequences of Dropping Out of High School: Findings for Massachusetts in the 21st Century.” It delineated the negative private and social outcomes associated with being a high school dropout.

² Levin, H. et al., The Costs and benefits of an Excellent Education for All of America's Children, January 2007, p.3. excerpted from Alliance for Excellent Education Straight A's newsletter, March 5, 2007, Volume 7, Number 5.

• Labor market outcomes: Youth who drop out of school have lower rates of labor force attachment, higher unemployment rates, lower employment rates, less full-time employment, lower weekly wages, lower annual earnings, lower lifetime earnings, and reduced employee benefits.

• Income outcomes: There is a higher incidence of income inadequacy problems over the lifetime (poverty, near poverty, low incomes), a higher dependence on cash public assistance income to support themselves, and higher dependence on in-kind transfers (food stamps, rental housing subsidies, Medicaid).

• Family outcomes: In terms of family outcomes, high school dropouts have lower marriage rates among men and women, higher rates of unmarried parents, poorer nutrition, health, cognitive, and schooling outcomes for their children.

• Health outcomes: High school dropouts have poorer quality of health, lower rates of health insurance coverage, higher use of Medicaid benefit, higher rates of physical/mental disability, and lower life expectancy.

• Civic Outcomes: Dropouts have lower voting rates in State and national elections, and lower rates of volunteering in civic, educational, and political organizations.

• Criminal Justice Outcomes: Criminal justice outcomes for dropouts include higher rates of incarceration in jails and prisons, higher victimization costs, and higher costs of maintaining prisons and jails.

• Other Outcomes: Dropouts pay less in payroll and Federal/State income taxes; contribute less to property tax payments due to lower home ownership rates and lower value homes; and have a higher receipt of cash transfer incomes and in-kind transfers (food stamps, rental subsidies, energy assistance, Medicaid), placing large net fiscal burdens on the rest of taxpayers.

• A new workforce “supply pipeline”: ETA's Youth Vision recognizes out-of-school youth and those most at risk of dropping out as an important part of the new workforce “supply pipeline” that businesses need to fill job vacancies in the new knowledge-based economy. However, without re-connecting these youth to high quality educational opportunities, they will not be adequately prepared to participate in today's economy. ETA's Youth Vision focuses investment of WIA resources on connecting youth with high quality education and employment services. The full Youth Vision document is available at http://www.doleta.gov/ryf/WhiteHouseReport/VMO.cfm.

ETA is committed to supporting cities in their efforts to develop a blueprint which will lead to the creation of a high quality, innovative multiple education pathway system. These multiple education pathways will offer a variety of alternative learning opportunities that prepare youth for post-secondary education and help them to re-enter the workforce supply chain and compete for high quality jobs in a demand-driven system.

ETA's Youth Vision, developed over two years ago, began to address the problems created by the large number of youth leaving high school without a diploma. The increased national focus on the impact of high dropout rates on regional economic development has driven ETA's development of a multiple education pathways strategy which is designed to increase the quality and quantity of alternative education opportunities and post-secondary opportunities for formerly out-of-school youth. To address the challenges posed by dropouts, cities must develop systems that provide a variety of educational options for re-engaging drop outs and students at risk of dropping out. These grants are intended to provide the funds for communities to plan those systems.

B. Multiple Education Pathway Ecosystems

Multiple Education Pathway Ecosystems are comprised of a wide variety of academically rigorous and innovative alternative learning environments. At ETA, alternative learning environments broadly refer to schools or programs that are set up by States, school districts, or other community-based entities to serve young people who are not succeeding in a traditional public school environment. Alternative learning environments offer students opportunities to achieve in a different setting through creative and innovative teaching methods. While there are many different kinds of alternative schools and programs, they are often characterized by the following noteworthy attributes:

• High academic standards that are consistent with State NCLB standards;

• Creative and engaging instruction that emphasizes the connection between real life and learning;

• Clearly articulated academic and applied learning goals;

• Opportunities for youth to catch up and accelerate knowledge and skills particularly in the area of literacy and numeracy;

• Opportunities for achievement in science, technology, engineering, and math (STEM);

• A culture of high expectations for all students;

• High quality teachers who are certified in their content areas, establish a rapport with the students, are creative in their classrooms and play a role in designing curricula;

• Ongoing professional development;

• Low student/teacher ratios;

• Opportunities for connections with caring adults who support the students in negotiating the transition to adulthood;

• Flexible schedules;

• Well-maintained, clean, accessible and safe facilities;

• Connections to a range of community resources, including those that can assist with career development;

• Administrative and bureaucratic autonomy and operational flexibility; and

• Necessary supportive services.

In science there are many definitions of the term ecosystem; however, they all refer to communities or groups of different organisms working in concert with one another to form a complex web of interdependency. By referring to a multiple education pathway ecosystem, ETA is emphasizing the interdependency required between multiple partners in a community to address the issue of high dropout rates within the context of the city's overall secondary education system. Examples of cities that are developing or have developed multiple education pathway ecosystems can be found at the Youth Transition Funders Group Web site (http://www.ytfg.org/about_OOS.html).

Multiple education pathway ecosystems must be supported by a wide range of partners including the school district, community-based organizations, the public workforce system, higher education, business, and government agencies that serve youth, such as health and human services, juvenile justice, etc. and local chapters of national youth development organizations.

Multiple pathways to educational success are needed at every step of the way, ranging from essential early intervention and prevention strategies in the early years, to a multiplicity of high-quality alternative options within mainstream K-12 systems at the middle and high school levels, and finally to opportunities outside of the mainstream for those who have been unable to learn and thrive in the general education system. However, for purposes of this grant, the focus is on secondary and post-secondary educational opportunities.

For more information on the work that ETA has undertaken on multiple education pathways, please go to: http://www.doleta.gov/youth%5Fservices/Alternative.cfm.

C. Multiple Education Pathways Blueprint (MEPB) Grant Objectives

Funds made available through the MEPB grants will be used to carry out activities with the following core objectives:

• The development of multiple education pathway ecosystems that connect to regional talent and economic development strategies through data analysis and resource mapping;

• Increasing the quality and quantity of academically rigorous and innovative multiple education pathways;

• Providing a national focus on multiple education pathway strategies; and

• Supporting and connecting to other national efforts already underway through private foundation support.

D. Partnerships

Youth do not disconnect from traditional developmental pathways (or high schools for that matter) because of the failure of any one system. Likewise, reconnecting youth requires collaboration and coordination among multiple youth-serving systems: these include school and youth employment and training programs and education, as well as child protective service systems, the juvenile justice system, and a variety of health and human services agencies, such as mental health and substance abuse treatment agencies, crisis intervention centers, runaway and homeless youth shelters, and others. Other partners may include local chapters of national youth development organizations such as Distributive Education Clubs of America (DECA), Health Occupation Students of America (HOSA), Jobs for America's Graduates (JAG), Junior Achievement, and Skills USA. These types of partners are especially important in efforts to make academics more relevant and in making connections with the business community. It should be noted that ETA is not specifically endorsing or recommending the five example organizations and that they are merely illustrative of the types of organizations with which applicants may partner

Partnerships and partnership roles will vary depending on the applicant's strategy and participant needs; however, each collaborative partner should have a clearly defined role. These roles must be verified through a letter of commitment submitted by each partner. The letter of commitment must detail the role the partner will play in the project, including specific responsibilities and resources committed, if appropriate. These letters should clearly indicate the partnering organization's unique contribution and commitment to the project. It is ETA's expectation that the leadership of this partnership will be provided by the city's mayor or the mayor's designee.

E. Allowable Activities

The following are allowable activities under this grant:

• Staffing to convene partners and lead efforts;

• Consortium/partnership development;

• Data collection and analysis;

• Development of funding strategies to sustain existing programs including strategies for accessing average daily attendance and dual enrollment funds;

• Identification of leveraged resources to support multiple education pathways;

• Benchmarking of programs locally and in other communities with similar needs, as well as benchmarking of “systems” in other similar communities;

• Development of plans based on gap analysis for the addition of new programs/services;

• Feasibility studies to develop MIS/data sharing strategies;

• Creation of a Request for Proposals (RFP) process locally to develop new education programs/program services based on thoughtful standards and best practice research;

• Development of a common case management system that will work across education programs;

• Development of a coordinated referral and intake system for young people;

• On-going evaluation;

• Activities that integrate existing alternative education programs and strategies into a system of pathways to graduation within a city;

• The addition of model programs to increase the variety of alternative learning opportunities; and

• The addition of evidence-based numeracy and literacy remediation strategies to existing programs.

II. Award Information

A. Award Amount

ETA intends to fund approximately 10 grants of $300,000 for Multiple Education Pathway blueprint development activities; however, this does not preclude ETA from funding grants at either a lower or higher amount, or funding a smaller or larger number of projects, based on the type and the number of quality submissions.

B. Period of Performance

Grants will be awarded for a one-year period of performance. At the Department's discretion, no-cost extensions may be granted. Pending the availability of funds, an open competition may be held in FY 2008 to support the implementation of Multiple Education Pathway System blueprints.

III. Eligibility Information

A. Eligible Applicants

Eligible applicants are mayors of cities whose population is between 75,000 and 350,000 based on the 2000 Census and who have a cohort dropout rate of more than forty percent. To find the cohort rate for dropouts in the area being served, provide the 9th grade enrollment at each high school that serves youth from the city for 2001 and the graduating class for those same high schools in May/June 2005.

Applicants will demonstrate that the blueprint will be developed by a comprehensive partnership which includes a Superintendent of Schools and the Chairs of the local Workforce Investment Boards. The Superintendent of Schools and the Chairs of the local Workforce Investment Boards are required partners for this grant. The partnership may also include community colleges, businesses, community or faith-based organizations, and/or municipal or state agencies who work with at-risk youth such as the juvenile justice system.

B. Cost Sharing or Matching

Cost sharing or matching funds are not required as a condition for application, but leveraged resources are strongly encouraged and failure to commit and integrate leveraged resources into the project may have a significant impact on an applicant's ability to successfully compete for grant funds. While the amount of resources leveraged will not be factored into the applicant's score, applications will be scored based on the quality and the degree to which the source and use of leveraged funds are clearly explained and the extent to which they are integrated into the project in support of grant outcomes. As described in section V. 4., up to 20 points are available for this criterion.

IV. Application and Submission Information

A. Address To Request Application Package

This SGA contains all of the information and links to forms needed to apply for grant funding.

B. Content and Form of Application Submission

The proposal will consist of two separate and distinct parts—a cost proposal (I) and a technical proposal (II). Applications that fail to adhere to the instructions in this section will be considered non-responsive and will not be considered.

Part I. The Cost Proposal. The Cost Proposal must include the following three items:

• The Standard Form (SF) 424, “Application for Federal Assistance” (available at http://www.whitehouse.gov/omb/grants/sf424.pdf). The SF 424 must clearly identify the applicant and be signed by an individual with authority to enter into a grant agreement. Upon confirmation of an award, the individual signing the SF 424 on behalf of the applicant shall be considered the authorized representative of the applicant.

• All applicants for Federal grant and funding opportunities are required to have a Dun and Bradstreet (DUNS) number. See Office of Management and Budget (OMB) Notice of Final Policy Issuance, 68 FR 38402 (June 27, 2003). Applicants must supply their DUNS number on the SF 424. The DUNS number is a nine-digit identification number that uniquely identifies business entities. Obtaining a DUNS number is easy and there is no charge. To obtain a DUNS number, access this Web site: http://www.dunandbradstreet.com or call 1-866-705-5711.

• The SF 424A Budget Information Form (available at http://www.whitehouse.gov/omb/grants/sf424a.pdf). In preparing the Budget Information Form, the applicant must provide a concise narrative explanation to support the request. The budget narrative should break down the budget and leveraged resources by project activity, and should discuss precisely how the administrative costs support the project goals. The budget should also include travel funds for at least one national meeting.

Please note that applicants that fail to provide a SF 424, SF 424A and a budget narrative will be removed from consideration prior to the technical review process. If the proposal calls for integrating WIA or other Federal funds or includes other leveraged resources, these funds should not be listed on the SF 424 or SF 424A Budget Information Form, but should be described in the budget narrative and in Part II of the proposal. The amount of Federal funding requested for a one-year period of performance should be shown together on the SF 424 and SF 424A Budget Information Form. Applicants are also encouraged, but not required, to submit OMB Survey N. 1890-0014: Survey on Ensuring Equal Opportunity for Applicants, which can be found at http://www.doleta.gov/sga/forms.cfm.

Part II. The Technical Proposal. The Technical Proposal will demonstrate the applicant's capability to lead efforts either to develop a MEPB for the city or to implement an existing MEPB in accordance with the provisions of this solicitation. The guidelines for the content of the Technical Proposal are provided in Part V Section A of this SGA. The Technical Proposal is limited to 15 double-spaced single-sided pages with 12 point text font and one-inch margins. Any materials beyond the 15-page limit will not be reviewed. Also, applicants should number the proposal beginning with page number 1.

In addition to the 15-page proposal, the applicant must provide an organization chart that reflects various partners' roles and responsibilities and how the project will be staffed. Also, the applicant must provide a timeline outlining project activities; letters of commitment from partners; and a two-page Abstract summarizing the proposed project including applicant name, project title, and the funding level requested. These additional materials do not count against the 15-page limit for the Technical Proposal, but may not exceed twenty (20) pages. Any materials beyond the 15-page limit will not be reviewed.

Applicants submitting proposals in hard copy must submit an original signed application (including the SF-424) and one (1) “copy-ready” version free of bindings, staples, or protruding tabs to ease in the reproduction of the proposal by ETA. Applicants submitting proposals in hard copy are also requested, though not required, to provide an electronic copy of the proposal on CD-ROM.

C. Submission Date, Times, and Addresses

The closing date for receipt of applications under this announcement is June 7, 2007. Applications must be received at the address below, or electronically received at the Web site below, no later than 4 p.m. (Eastern Time), except as identified in the “Late Applications” paragraph below. Applications sent by e-mail, telegram, or facsimile (fax) will not be honored. Applications that do not meet the conditions set forth in this notice will not be honored. No exceptions to the mailing and delivery requirements set forth in this notice will be granted.

Mailed applications must be addressed to the U.S. Department of Labor, Employment and Training Administration, Division of Federal Assistance, Attention: James W. Stockton, Reference SGA/DFA PY 06-12, 200 Constitution Avenue, NW., Room N-4716, Washington, DC 20210. Applicants are advised that mail delivery in the Washington area may be delayed due to mail decontamination procedures. Hand-delivered proposals will be received at the above address.

Applicants may apply online at http://www.grants.gov by the deadline specified above. Any application received after the deadline will not be accepted. For applicants submitting electronic applications via Grants.gov, please note that it may take several days to complete the “Get Started” step to register with Grants.gov. It is strongly recommended that these applicants immediately initiate this step in order to avoid unexpected delays that could result in the disqualification of their application. If submitted electronically through http://www.grants.gov, applicants should save application documents as a .doc or .pdf file.

Late Applications: Any application received after the exact date and time specified for receipt at the office designated in this notice will not be considered, unless it is received before awards are made, was properly addressed, and: (a) Was sent by U.S. Postal Service registered or certified mail not later than the fifth calendar day before the date specified for receipt of applications (e.g., an application required to be received by the 20th of the month must be post marked by the 15th of that month) or (b) was sent by professional overnight delivery service or submitted on Grants.gov to the addressee not later than one working day prior to the date specified for receipt of applications. It is highly recommended that online submissions be completed one working day prior to the date specified for receipt of applications to ensure that the applicant still has the option to submit by overnight delivery service in the event of any electronic submission problems. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness.

Evidence of timely submission by a professional overnight delivery service must be demonstrated by equally reliable evidence created by the delivery service provider indicating the time and place of receipt.

D. Intergovernmental Review

This funding opportunity is not subject to Executive Order (EO) 12372, “Intergovernmental Review of Federal Programs.”

E. Funding Restrictions

All proposal costs must be necessary and reasonable in accordance with Federal guidelines. Determinations of allowable costs will be made in accordance with the applicable Federal cost principles, e.g., 29 CFR 95.27; Non-Profit Organizations-OMB Circular A-122. Disallowed costs are those charges to a grant that the grantor agency or its representative determines not to be allowed in accordance with the applicable Federal Cost Principles or other conditions contained in the grant. Applicants are not entitled to reimbursement of pre-award costs.

Legal Rules Pertaining to Inherently Religious Activities by Organizations that Receive Federal Financial Assistance. The government is generally prohibited from providing direct financial assistance for inherently religious activities. See 29 CFR Part 2, Subpart D. Provision relating to the use of indirect support (such as through vouchers) are at 29 CFR 2.33(c) and 20 CFR 667.266. These grants may not be used to directly support religious instruction, worship, prayer, proselytizing or other inherently religious practices. Neutral, secular criteria that neither favor nor disfavor religion must be employed in the selection of grant and sub-grant recipients. In addition, under the Workforce Investment Act of 1998 and ETA regulations implementing the Workforce Investment Act, a recipient may not use direct Federal assistance to train a participant in religious activities, or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972), national origin, age, disability, or political affiliation or belief.”

Indirect Costs. As specified in OMB Circular Cost Principles, indirect costs are those that have been incurred for common or joint objectives and cannot be readily identified with a particular cost objective. In order to utilize grant funds for indirect costs incurred, the applicant must obtain an Indirect Cost Rate Agreement with its Federal Cognizant Agency either before or shortly after the grant award.

Administrative Costs. An entity that receives a grant to carry out a project or program may not use more than ten (10) percent of the amount of the grant to pay administrative costs associated with the program or project. Administrative costs could be both direct and indirect costs and are defined at 20 CFR 667.220. Administrative costs do not need to be identified separately from program costs on the SF 424A Budget Information Form. They should be discussed in the budget narrative and tracked through the grantee's accounting system. To claim any administrative costs that are also indirect costs, the applicant must obtain an indirect cost rate agreement from its Federal Cognizant Agency as specified above.

ETA Intellectual Property Rights. Grantees must agree to provide DOL/ETA a fully paid, nonexclusive and irrevocable license to reproduce, publish, or otherwise use for Federal purposes all products developed or for which ownership was purchased under an award, including but not limited to curricula, training models, technical assistance products, and any related materials, and to authorize them to do so. Such uses include, but are not limited to, the right to modify and distribute such products worldwide by any means, electronically or otherwise.

F. Withdrawal of Applications

Applications may be withdrawn by written notice or telegram (including mailgram) received at any time before an award is made. Applications may be withdrawn in person by the applicant or by an authorized representative thereof, if the representative's identity is made known and the representative signs a receipt for the proposal.

V. Application Review Information

A. Evaluation Criteria

This section identifies and describes the criteria that will be used to evaluate proposals for a Multiple Education Pathways Grant. These criteria and point values are:

Criterion | Points
1. Statement of Need | 10
2. Partnership Composition/Capacity and Management | 30
3. Work Plan/Timeline, Strategies, and Outcomes | 40
4. Leveraged Resources | 20
Total Possible Points | 100

1. Statement of Need (10 Points)

Please describe the city, its current education system and its connection to the regional economy. Identify the need for a Multiple Education Pathways blueprint. The blueprint developed must encompass the entire city. Required information includes the city's population, the number of secondary schools that serve the city, and the number of youth currently enrolled in them. Applicant must also provide the cohort dropout rate as well as the number of 18-24 year olds without a high school diploma.³ To find the city's cohort rate for dropouts, provide the 9th grade enrollment at each high school within the city for 2001 and the graduating class for those same high schools in May/June 2005. Please provide the unemployment rate for the city and region. All of these indicators should be presented in chart form and the applicant must provide the sources for the data provided.

³ To obtain these indictors, use census tract data from the 2000 census—go to http://factfinder.census.gov and use the link on the left for People.

Please specifically indicate why reducing the dropout rate, re-engaging youth who have already dropped out, and increasing the college enrollment rate is important to the regional economy. Please describe the local labor market needs of employers in the city and region. Applicants should describe how the educational challenges faced by youth in the city have impacted economic development in the region, the burdens placed on public systems/resources, and other community quality of life issues.

Applicants will be evaluated on the clear and specific need for a multiple education pathway strategy in the city based on the dropout rate, the impact of dropout rates on the city and regional economy, the gap between local labor market needs and existing talent, the clear description of and depth of the burden on public systems/resources and other quality of life issues in the city.

2. Partnership Composition/Capacity and Management (Total 30 Points)

Disadvantaged youth possess a wide range of challenges that must be addressed by multiple strategies, organizations, and agencies. A comprehensive partnership is a critical component in the development of a successful MEPB blueprint. In this section describe the composition, capacity, and management of your partnership, why this particular team was assembled, and how it will function.

2a. Describe the composition and capacity of the partnership for MEPB Development. (20 points)

Please provide a description of the partnership that will develop the MEPB for the city. Applicants should provide information on how the partners were selected and what their interest is in coming to and staying at the table to build a system of quality alternative learning environments. Specifically, describe in detail the activities to be undertaken by partners, the level of commitment from each partnering organization, and their qualifications to assist on this project. As an attachment, the applicant must include letters of commitment from key partners that describes the role they will play in developing the city's multiple education blueprint. The applicant should also demonstrate the strength and maturity of the partnership including previous collaboration on projects.

Please describe the role of the mayor, particularly in providing leadership throughout the process of blueprint development. Please fully describe the role of the school district and the workforce system in the development of the MEPB. Please describe how post-secondary institutions will participate in this partnership.

Please fully describe the specific role of employers in the proposed program, such as their role in developing the proposed program and how they will participate pro-actively in generating community and political will to sustain MEPB projects in the city.

Please fully describe how key partners have attracted private foundation support for similar initiatives for at-risk youth and how this might contribute to the success of this project. Please fully describe the type of academic and demographic resources which will be available to the partnership to use in the development of the blueprint.

Scoring under this criterion will be based on the extent to which applicants provide evidence of the following:

• The degree and depth of leadership demonstrated by the mayor;

• Evidence of high level interest in strengthening the city's education system particularly for out-of-school youth;

• Evidence of buy-in from key stakeholders including local elected officials, K-12 school boards and superintendents, the workforce system, community colleges, etc.;

• The comprehensiveness of the partnership and the degree to which each key partner plays a committed role, either financial or non-financial, in the proposed project;

• The breadth and depth of each key partner's contribution, their knowledge and experience concerning the proposed grant activities, and their ability to impact the success of the project; and

• Evidence, including letters of commitment, that key partners have expressed a clear dedication to the project and understand their areas of responsibility.

2b. Describe how will this project be administered. (10 points)

Applicants must describe the proposed project management structure including, where appropriate, the lead agency (in most instances, the mayor's office), the identification of a proposed project manager, discussion of the proposed staffing pattern, the time commitment of the proposed staff, their roles, and the qualifications and experience of key staff members. If a lead agency other than the mayor's office is selected to manage the MEPB project, the application must provide a detailed rationale for why this choice was made.

Please provide evidence of a plan for interaction and communication between partners and the demonstrated ability and capacity of the lead agency to successfully manage partnerships. Please describe the capacity of the partnership to accomplish the goals and outcomes of the project, including the ability to collect and manage data. Describe how the partnership has or will engage private foundations in the project.

Please fully describe the lead agency's previous experience in operating grants from either Federal or non-Federal sources. Describe the fiscal controls in place for auditing and accountability procedures.

Scoring under this criterion will be based on the extent to which applicants provide evidence of the following:

• The time commitment of the proposed staff is sufficient to ensure proper direction, management, and timely completion of the project;

• The roles and contribution of staff, consultants, and collaborative organizations are clearly defined and linked to specific objectives and tasks;

• The background, experience, and other qualifications of the staff are sufficient to carry out their designated roles;

• The degree to which the partnership, under direction from the lead agency, has significant capacity to accomplish the goals and outcomes of the project, including the ability to collect and manage data;

• The ability of the partnership to engage private foundations in the project; and

• The ability of the partnership to identify and utilize academic research centers (i.e., university, think tanks) to support this project.

3. Strategies, Work Plan/Timeline, and Outcomes (40 Points Total)

In this section the applicant will describe how the blueprint will be developed including the types of activities and strategies which will be utilized and will include a clear work plan with a timeline that outlines how the work will be accomplished. In addition, the applicant must provide information on the outcomes which are expected to be achieved.

3a. Please provide a description of the strategies that will be used to develop a Multiple Education Pathway system in the city. (20 points)

Applicants will provide a detailed description of the strategies that will be used to research and respond to the challenges described in the Statement of Need section of this proposal and to develop the city's blueprint for a multiple education pathway system. Please describe in detail how data on the city's dropout population will be analyzed and how data will be used to pinpoint where youth become at risk for dropping out. Describe the plan to review policies (financial, disciplinary, and other) at both the local and state level to determine where these policies present obstacles to creating Multiple Education Pathways. Please describe how the partnership will assess existing education programs that serve youth who are at risk of dropping out of school and youth who have dropped out of school in your city. Please describe how promising models of alternative education will be identified and how research will be used to develop a MEP system in your city. Please describe how youth will be involved in the development of the blueprint. Please describe how community awareness and support for this will be produced and sustained. Please describe any other strategies that will be employed in the development of the city's Multiple Education Pathway Blueprint.

Scoring under this criterion will be based on the extent to which applicants provide evidence of the following:

• The ability to conduct a community gap analysis that identifies the number of young people who are out of school and their programmatic needs and the number of programs that serve this population and identify gaps in services;

• The ability to map out the “system” currently in place in the community for intake, assessment, program and additional services, data collection and analysis, and to follow up with youth and identify areas of need;

• That the blueprint will be integrated with the city's overall educational strategy;

• That education and other policy issues that impact youth at local and state level will be assessed including access to average daily attendance funding, dual-enrollment funding, and disciplinary policies;

• A strategy to engage youth in the development of the blueprint;

• The potential for developing an “actionable” Multiple Education Pathway blueprint;

• The potential of the plan for increasing high school graduation rates in the city;

• The potential of the plan for increasing post-secondary enrollment for youth in the city; and

• The potential of the plan for increasing reading and math skills for youth who are behind in basic skills.

3b. Please provide the outcomes that will be achieved as a result of the proposed strategies and how these outcomes will be measured. (10 points)

Please provide a detailed description of the outcomes that will be achieved. Describe how these outcomes will be measured. Success may be measured on, but is not limited to, the following criteria:

• Quality product development;

• Meeting the benchmarks set forth in the work plan time line;

• The ability to identify funding streams or other leveraged resources that support implementation of the plan;

• Funding priorities;

• Depth of innovation and creativity;

• Potential of the blueprint to be implemented;

• Depth and engagement of partners; and

• Improved community wide understanding of the nature, challenges, and solutions to the dropout problem in the city.

Points will be awarded based on the following:

• The extent to which the expected project outcomes are clearly identified and measurable, realistic, and consistent with the objectives of the project;

• The ability of the partnership to achieve the stated outcomes within the timeframe of the grant; and

• The appropriateness of the outcomes with respect to the challenges described in the Statement of Need section of this proposal.

3c. Please provide a work plan with timeline that organizes how the strategies described in your proposal will be accomplished. (10 points)

Please provide a detailed work plan to demonstrate how the blueprint will be developed. The work plan should include a timeline as well as the lead for each activity/strategy. Applicants are encouraged to create tight work plans that will produce actionable activities during the period of performance for this grant. It is not necessary to have an endless list of strategies but rather strategies that will bring about the desired outcomes and address the challenges outlined in the Statement of Need section of this proposal.

Points will be assessed on the potential for the work plan to achieve desired outcomes, the interim benchmarks, and the viability of the timeline.

4. Leveraged Resources (20 Points)

Leveraged resources are strongly encouraged and should be described in this section of the narrative. Leveraged funds should not be included on budget forms. Federal, state, local, or private resources can be included as leveraged resources. The amount of resources leveraged will not be factored into the score for this section. Rather, applications will be scored based on the quality and the degree to which the source and use of leveraged funds are clearly explained and the extent to which they are integrated into the project in support of grant outcomes. The description of leveraged resources must be supported by explicit memorandums of understanding (MOUs) or letters of commitment and describe the resources and should fully describe how the value of the resources was calculated.

Scoring on this factor will be based on the extent to which the applicant fully describes the amount, commitment, nature, and quality of leveraged resources. Important elements of the explanation include:

• Evidence, such as letters of commitment or memorandums of understanding (MOUs), that key partners have expressed a clear commitment to provide the resource;

• The nature and quality of the leveraged resources and a description of how each contribution will support the proposed grant activities; and

• The strategic value of the leveraged resources and how well these resources support the development of the MEPB.

B. Review and Selection Process

Applications will be accepted after the publication of this announcement until the closing date. A technical review panel will make a careful evaluation of applications against the criteria set forth in Section V of this Solicitation. These criteria are based on the policy goals, priorities, and emphases set forth in this SGA. Up to 100 points may be awarded to an application, based on the required information described in Section V of this Solicitation. The ranked scores will serve as the primary basis for selection of applications for funding, in conjunction with other factors such as urban, rural, and geographic balance; and which proposals are most advantageous to the Government. The panel results are advisory in nature and not binding on the Grant Officer, and the Grant Officer may consider any information that comes to his/her attention. The Government may elect to award the grant(s) with or without discussions with the applicants. Should a grant be awarded without discussions, the award will be based on the applicant's signature on the SF 424, which constitutes a binding offer by the applicant (including electronic signature via E-Authentication on http://www.grants.gov).

VI. Award Administration Information

A. Award Notices

All award notifications will be posted on the ETA homepage (http://www.doleta.gov). Applicants selected for award will be contacted directly before the grant's execution. Applicants not selected for award will be notified by mail.

B. Administrative and National Policy Requirements

All grantees, including faith-based organizations, are subject to all applicable Federal laws (including provisions of appropriation laws), regulations, and the applicable Office of Management and Budget (OMB) Circulars. The grant(s) awarded under this SGA must comply with all provisions of this solicitation and are subject to the following administrative standards and provisions, as applicable to the particular grantee:

1. 20 Code of Federal Regulations (CFR) Part 667.220 (Administrative Costs).

2. Non-Profit Organizations—Office of Management and Budget (OMB) Circulars A-122 (Cost Principles) and 29 CFR Part 95 (Administrative Requirements).

3. Educational Institutions—OMB Circulars A-21 (Cost Principles) and 29 CFR Part 95 (Administrative Requirements).

4. All entities must comply with 29 CFR parts 93 and 98 and, where applicable, 29 CFR parts 96 and 99.

5. In accordance with Section 18 of the Lobbying Disclosure Act of 1995, Public Law 104-65 (2 U.S.C. 1611) non-profit entities incorporated under Internal Revenue Service Code section 501(c)(4) that engage in lobbying activities are not eligible to received Federal funds and grants.

6. 29 CFR part 2, subpart D—Equal Treatment in Department of Labor Programs for Religious Organizations; Protection of Religious Liberty of Department of Labor Social Service Providers and Beneficiaries.

7. 29 CFR part 30—Equal Employment Opportunity in Apprenticeship and Training.

8. 29 CFR part 31—Nondiscrimination in Federally Assisted Programs of the Department of Labor—Effectuation of Title VI of the Civil Rights Act of 1964.

9. 29 CFR part 32—Nondiscrimination on the Basis of Handicap in Programs and Activities Receiving or Benefiting from Federal Financial Assistance.

10. 29 CFR part 33—Enforcement of Nondiscrimination on the Basis of Handicap in Programs or Activities Conducted by the Department of Labor.

11. 29 CFR part 35—Nondiscrimination on the Basis of Age in Program or Activities Receiving Federal Financial Assistance form the Department of Labor.

12. 29 CFR part 36—Nondiscrimination on the Basis of Sex in Education Programs or Activities Receiving Federal Financial Assistance.

13. 29 CFR part 37—Implementation of the Nondiscrimination and Equal Opportunity Provisions of the Workforce Investment Act of 1998 (WIA).

Note: Except as specifically provided in this Notice, ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, ETA's award does not provide the justification or basis to sole source the procurement, i.e., avoid competition, unless the activity is regarded as the primary work of an official partner to the application.

C. Reporting

Quarterly financial reports and quarterly progress reports will be submitted by the grantee electronically. The grantee is required to provide the reports and documents listed below:

Quarterly Financial Reports. A Quarterly Financial Status Report (SF 269) is required until such time as all funds have been expended or the grant period has expired. Quarterly reports are due 30 days after the end of each calendar year quarter. Grantees must use ETA's On-Line Electronic Reporting System and information and instructions will be provided to grantees.

Quarterly Progress Reports. The grantee must submit a quarterly progress report to their designated Federal Project Officer within 30 days after the end of each quarter. This report should provide a detailed account of activities undertaken during that quarter. Grantees must agree to meet ETA reporting requirements. The quarterly progress report should be in narrative form and should include:

1. In-depth information on accomplishments, including project success stories, upcoming grant activities, and promising approaches and processes.

2. Progress toward performance outcomes, including updates on product, curricula, and training development.

Final Report. A draft final report must be submitted no later than 60 days prior to the expiration date of the grant. This report must summarize project activities, employment outcomes, and related results of the training project, and should thoroughly document capacity building and training approaches. The final report should also include copies of all deliverables, e.g. curricula and competency models. After responding to ETA questions and comments on the draft report, three copies of the final report must be submitted no later than the grant expiration date. Grantees must agree to use a designated format specified by ETA for preparing the final report.

VII. Agency Contacts

For further information regarding this SGA, please contact B. Jai Johnson, Grants Management Specialist, Division of Federal Assistance, at (202) 693-3296 (please note this is not a toll-free number). Applicants should fax all technical questions to (202) 693-2705 and must specifically address the fax to the attention of B. Jai Johnson and should include SGA/DFA PY 06-12, a contact name, fax and phone number, and email address. This announcement is being made available on the ETA Web site at http://www.doleta.gov/sga/sga.cfm, at http://www.grants.gov, and in the Federal Register.

VIII. Additional Resources of Interest to Applicants and Other Information Resources for the Applicant

ETA maintains a number of web-based resources that may be of assistance to applicants:

• The Web site for the Employment and Training Administration (http://www.doleta.gov) is a valuable source for background information on the President's High Growth Job Training Initiative.

• The Workforce ³ One Web site (http://www.workforce3one.org) is a valuable resource for information about demand-driven projects of the workforce investment system, educators, employers, and economic development representatives.

• America's Service Locator (www.servicelocator.org) provides a directory of the nation's One-Stop Career Centers.

• Applicants are encouraged to review “Help with Solicitation for Grant Applications” (http://www.dol.gov/cfbci/sgabrochure.htm).

• For a basic understanding of the grants process and basic responsibilities of receiving Federal grant support, please see “Guidance for Faith-Based and Community Organizations on Partnering with the Federal Government” (http://www.whitehouse.gov/government/fbci/guidance/index.html).

Other Information

OMB Information Collection No. 1205-0458

Expires September 30, 2009

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, Room 10235, Washington, DC 20503. Please do not return your completed application to the OMB. Send it to the sponsoring agency as specified in this solicitation.

This information is being collected for the purpose of awarding a grant. The Department of Labor will use the information collected through this “Solicitation for Grant Applications” to ensure that grants are awarded to the applicant best suited to perform the functions of the grant. Applicants must submit this information in order to be considered for award of this grant. Unless otherwise specifically noted in this announcement, we will not consider information submitted in the respondent's application to be confidential.

Signed at Washington, DC, this 1st day of May, 2007.
James W. Stockton,
Employment and Training Administration, Grant Officer.

[FR Doc. E7-8720 Filed 5-7-07; 8:45 am]

BILLING CODE 4510-FT-P